DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines. Section 2112(b)(2) of the PHS Act, 42 U.S.C. 300aa-12(b)(2), requires that “[w]ithin 30 days after the Secretary receives service of any petition filed under section 2111 the Secretary shall publish notice of such petition in the Federal Register.” Set forth below is a list of petitions received by HRSA on August 1, 2019, through August 31, 2019. This list provides the name of petitioner, city and state of vaccination (if unknown then city and state of person or attorney filing claim), and case number. In cases where the Court has redacted the name of a petitioner and/or the case number, the list reflects such redaction. Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Dated: September 19, 2019.
Thomas J. Engels,
Acting Administrator.

List of Petitions Filed

1. Richard Watts and Tiffani Watts on behalf of R. W., Chicago, Illinois, Court of Federal Claims No: 19-1119V

2. Ann Marie Moritz, Depew, New York, Court of Federal Claims No: 19-1120V

3. Joel Lemieux, Auburn Hills, Michigan, Court of Federal Claims No: 19-1121V

4. Michelle Carroll on behalf of J.W., Drexel Hill, Pennsylvania, Court of Federal Claims No: 19-1125V

5. Marie Bruno, Boston, Massachusetts, Court of Federal Claims No: 19-1126V

6. Kennedy Deese, Charlotte, North Carolina, Court of Federal Claims No: 19-1127V

7. Natacha Jacques, South Pasadena, Florida, Court of Federal Claims No: 19-1128V

8. Kathy Brimner, Cranberry Township, Pennsylvania, Court of Federal Claims No: 19-1129V

9. Natalie Sternal, Dallas, Texas, Court of Federal Claims No: 19-1130V

10. Tamya Graham, Wilmington, Delaware, Court of Federal Claims No: 19-1132V

11. Ethel Love, Waterloo, Iowa, Court of Federal Claims No: 19-1134V

12. Candy Larue, Niagara Falls, New York, Court of Federal Claims No: 19-1135V

13. Brian Hicks, Winter Haven, Florida, Court of Federal Claims No: 19-1139V

14. Markitta Simmons on behalf of S.S., Tullahoma, Tennessee, Court of Federal Claims No: 19-1140V

15. Samantha Hall, Newtown Square, Pennsylvania, Court of Federal Claims No: 19-1141V

16. Catherine Jones, Farmville, Virginia, Court of Federal Claims No: 19-1143V

17. Morgan Magyar, Washington, District of Columbia, Court of Federal Claims No: 19-1144V

18. Nikki Rudd, Rochester, New York, Court of Federal Claims No: 19-1146V

19. Janice Aragon, San Antonio, Texas, Court of Federal Claims No: 19-1148V

20. Richard Parsons, Churchville, New York, Court of Federal Claims No: 19-1150V

21. Traci Stafford, Weatherford, Texas, Court of Federal Claims No: 19-1152V

22. Herman Sanders, Atlanta, Georgia, Court of Federal Claims No: 19-1153V

23. Kathleen C. Thomas, Waco, Texas, Court of Federal Claims No: 19-1154V

24. Frederick J. Kelly, Blue Springs, Missouri, Court of Federal Claims No: 19-1155V

25. Nikola Zaturoski, Montville, New Jersey, Court of Federal Claims No: 19-1156V

26. Elizabeth Gruba, Loganville, Georgia, Court of Federal Claims No: 19-1157V

27. Morgan Adele Garrison, Goodlettsville, Tennessee, Court of Federal Claims No: 19-1161V

28. Joel Williams, Holland, Ohio, Court of Federal Claims No: 19-1163V

29. Brent Kejr on behalf of Channing Kejr, Salina, Kansas, Court of Federal Claims No: 19-1166V

30. Glendon G. Dockery, Fishkill, New York, Court of Federal Claims No: 19-1170V

31. Sindy Caridi, Ormond Beach, Florida, Court of Federal Claims No: 19-1174V

32. Valarie Williams, Washington, District of Columbia, Court of Federal Claims No: 19-1177V

33. William Starnes, Washington, District of Columbia, Court of Federal Claims No: 19-1181V

34. Jody Madala, Rockaway, New Jersey, Court of Federal Claims No: 19-1182V

35. Dora Sugranez, Pleasantville, New Jersey, Court of Federal Claims No: 19-1183V

36. John Casey, Boston, Massachusetts, Court of Federal Claims No: 19-1184V

37. Deborah McNabb, Boston, Massachusetts, Court of Federal Claims No: 19-1185V

38. Joanne Rivers, Sumter, South Carolina, Court of Federal Claims No: 19-1186V

39. Loan Nguyen, Washington, District of Columbia, Court of Federal Claims No: 19-1188V

40. Rebecca Alger, Milford, Massachusetts, Court of Federal Claims No: 19-1190V

41. Emily Bailey, Lutherville, Maryland, Court of Federal Claims No: 19-1191V

42. William Brumbach, Lincolnwood, Illinois, Court of Federal Claims No: 19-1192V

43. Kristopher Grymonpre, Braintree, Massachusetts, Court of Federal Claims No: 19-1193V

44. Stacey Maslyn, Chesapeake, Virginia, Court of Federal Claims No: 19-1194V

45. Linda Leasure, Streetsboro, Ohio, Court of Federal Claims No: 19-1195V

46. Joy M. Freiberg, Los Angeles, California, Court of Federal Claims No: 19-1196V

47. Shirley R. Miller, Moab, Utah, Court of Federal Claims No: 19-1197V

48. Karen Garner, Bellevue, Washington, Court of Federal Claims No: 19-1198V

49. Jennifer Naegel, Cincinnati, Ohio, Court of Federal Claims No: 19-1199V

50. Koy T. Phan, San Ramon, California, Court of Federal Claims No: 19-1200V

51. Carolyn Deane, Peculiar, Missouri, Court of Federal Claims No: 19-1201V

52. Marcia Hagen, Tempe, Arizona, Court of Federal Claims No: 19-1213V

53. Katerina Novitskaya on behalf of N.G., Palo Alto, California, Court of Federal Claims No: 19-1214V

54. Susan Collins, Wilmington, Delaware, Court of Federal Claims No: 19-1216V

55. Larry Bulman, Natick, Massachusetts, Court of Federal Claims No: 19-1217V

56. Susan T. Russell, Spring Valley, California, Court of Federal Claims No: 19-1219V

57. Joshua Monnens and Elisabeth Monnens on behalf of R.M., Gilbert, Arizona, Court of Federal Claims No: 19-1220V

58. Jennifer Paul on behalf of Bryan Paul, Middle Village, New York, Court of Federal Claims No: 19-1221V

59. Thomas Hohenstein, Columbia, New Jersey, Court of Federal Claims No: 19-1222V

60. Sharon Rosacker, Fayetteville, North Carolina, Court of Federal Claims No: 19-1225V

61. Dana Mack, Philadelphia, Pennsylvania, Court of Federal Claims No: 19-1226V

62. Bertha Smith on behalf of Donald Smith, Deceased, San Mateo, California, Court of Federal Claims No: 19-1227V

63. Shelby Bolitho and Christopher Bolitho on behalf of J.B., Birmingham, Michigan, Court of Federal Claims No: 19-1229V

64. John Patrick Chard, San Juan Capistrano, California, Court of Federal Claims No: 19-1230V

65. Cherylene Jackson, Charlotte, North Carolina, Court of Federal Claims No: 19-1232V

66. Gerald Parker, Placerville, California, Court of Federal Claims No: 19-1233V

67. Jan Montesano, Boston, Massachusetts, Court of Federal Claims No: 19-1235V

68. Fernarnda Doxzon, Fort Hood, Texas, Court of Federal Claims No: 19-1236V

69. Bruce Lasiter, Powell, Tennessee, Court of Federal Claims No: 19-1237V

70. Emily Bruhl, New York, New York, Court of Federal Claims No: 19-1240V

71. Leroy J. Stoutenburg, III, Powder Springs, Georgia, Court of Federal Claims No: 19-1243V

72. Nicholas Antoniades and Brenda Antoniades on behalf of A.A., Santee, California, Court of Federal Claims No: 19-1244V

73. Jennifer Riley, Wellington, Ohio, Court of Federal Claims No: 19-1245V

74. Chrisopher Gromala, Marinette, Wisconsin, Court of Federal Claims No: 19-1247V

75. Juliana Forster, Gallatin, Tennessee, Court of Federal Claims No: 19-1248V

76. Becky Benvenuti, New Market, Ohio, Court of Federal Claims No: 19-1249V

77. Teresa Garcia, Modesto, California, Court of Federal Claims No: 19-1250V

78. Adele Honeyman, Salem, Oregon, Court of Federal Claims No: 19-1252V

79. Kim Bankowski, Denton, Texas, Court of Federal Claims No: 19-1253V

80. Doretha Robinson, Baltimore, Maryland, Court of Federal Claims No: 19-1254V

81. Wesley Greene, Mechanicsburg, Pennsylvania, Court of Federal Claims No: 19-1255V

82. Ann Marie Moritz, Depew, New York, Court of Federal Claims No: 19-1256V

83. Patricia Trask, Belfast, Maine, Court of Federal Claims No: 19-1257V

84. Torrey Seely, Aberdeen, Maryland, Court of Federal Claims No: 19-1258V

85. Brian Valentine, Mountain Lakes, New Jersey, Court of Federal Claims No: 19-1259V

86. Bonnie Cushman, Johnstown, Colorado, Court of Federal Claims No: 19-1261V

87. Michael Postlewait, Aston, Pennsylvania, Court of Federal Claims No: 19-1262V

88. Christine Barton, Parkton, Maryland, Court of Federal Claims No: 19-1264V

89. Michael Vang, Fox Lake, Wisconsin, Court of Federal Claims No: 19-1265V

90. Michael Ray Williams, Franklin, Tennessee, Court of Federal Claims No: 19-1269V

91. Julie Wiltse, Cincinnati, Ohio, Court of Federal Claims No: 19-1273V

92. J'nhia Rutledge, Greece, New York, Court of Federal Claims No: 19-1277V

93. Tonya E. Dixon, Norfolk, Virginia, Court of Federal Claims No: 19-1279V

94. Stephanie Vickers, Washington, District of Columbia, Court of Federal Claims No: 19-1280V

95. Robert Harshberger, Washington, District of Columbia, Court of Federal Claims No: 19-1281V

96. Glorse McPhee, Lakeland, Florida, Court of Federal Claims No: 19-1282V

97. Kirk Richardson, Washington, District of Columbia, Court of Federal Claims No: 19-1283V

98. Chloe Lemay-Assh, Roseville, California, Court of Federal Claims No: 19-1284V

99. Sally J. Silver, Concord, New Hampshire, Court of Federal Claims No: 19-1285V

100. Halie Lange, Brattleboro, Vermont, Court of Federal Claims No: 19-1287V

101. Dung Tran, Boston, Massachusetts, Court of Federal Claims No: 19-1288V

102. Michelle Schneider, Slidell, Louisiana, Court of Federal Claims No: 19-1289V

103. Aziza Adams, Seattle, Washington, Court of Federal Claims No: 19-1290V

104. Amy Gallanter, Cumming, Georgia, Court of Federal Claims No: 19-1291V

105. Luzmila Berumen, Mission Viejo, California, Court of Federal Claims No: 19-1292V

106. Vito Cantu, Dallas, Texas, Court of Federal Claims No: 19-1293V

107. Judy Ho and Jason Phung on behalf of J. P., San Mateo, California, Court of Federal Claims No: 19-1294V

108. Kelly Green on behalf of D.W.G., Las Vegas, Nevada, Court of Federal Claims No: 19-1295V

109. Catherine Cutrone, Washington, District of Columbia, Court of Federal Claims No: 19-1297V

110. Allyson Lavigne, Washington, District of Columbia, Court of Federal Claims No: 19-1298V

111. Arlyn Halpern, Washington, District of Columbia, Court of Federal Claims No: 19-1299V

112. Brenda Kearns, Washington, District of Columbia, Court of Federal Claims No: 19-1300V

113. Martha Buck, Washington, District of Columbia, Court of Federal Claims No: 19-1301V

114. Tomas Paredes, Phoenix, Arizona, Court of Federal Claims No: 19-1306V

115. Timothy Williams, Rancho Santa Margarita, California, Court of Federal Claims No: 19-1307V

116. Melissa Cast, Jacksonville, Florida, Court of Federal Claims No: 19-1310V

117. Mary Goble Thomas, Denver, Colorado, Court of Federal Claims No: 19-1311V

118. Scott Ayre, South Portland, Maine, Court of Federal Claims No: 19-1312V

119. Anna Sinopoli, Valhalla, New York, Court of Federal Claims No: 19-1313V

120. Philip Herman, White Plains, New York, Court of Federal Claims No: 19-1314V

121. Thomas E. Williams, Rancho Santa Margarita, California, Court of Federal Claims No: 19-1315V

122. Ingrid Galan, New York, New York, Court of Federal Claims No: 19-1316V

123. Bamba Cotton, Aurora, Indiana, Court of Federal Claims No: 19-1317V

124. Eric Punswick and Karen Punswick on behalf of A.P., Overland Park, Kansas, Court of Federal Claims No: 19-1318V

125. Daniel Reed, Harrisburg, Pennsylvania, Court of Federal Claims No: 19-1319V

126. Alfred Leidner, Philadelphia, Pennsylvania, Court of Federal Claims No: 19-1320V

127. Leia A. Prause, Spring, Texas, Court of Federal Claims No: 19-1322V

128. Merry Engel, Greensboro, North Carolina, Court of Federal Claims No: 19-1324V

129. Ann M. Horgan, East Greenwich, Rhode Island, Court of Federal Claims No: 19-1326V

130. Sarah Baker and Scott Baker on behalf of C.B., Deceased, Twin Falls, Idaho, Court of Federal Claims No: 19-1327V

131. Samantha Agar Smith Lowe on behalf of D.M., Hyde Park, New York, Court of Federal Claims No: 19-1330V

132. Terry Petty, Philadelphia, Pennsylvania, Court of Federal Claims No: 19-1332V

133. Sandra Meador, Philadelphia, Pennsylvania, Court of Federal Claims No: 19-1333V

134. Debra Lambert, Conshohocken, Pennsylvania, Court of Federal Claims No: 19-1335V

135. Kristi Dzurick, Winona, Minnesota, Court of Federal Claims No: 19-1336V

136. Ella Griffin, Houston, Texas, Court of Federal Claims No: 19-1337V

[FR Doc. 2019-20922 Filed 9-25-19; 8:45 am]

BILLING CODE 4165-15-P